DEPARTMENT OF LABOR

Office of the Workers' Compensation Programs

[OMB Control No. 1240-0029]

Proposed Extension of Existing Collection; Request for Examination and/or Treatment (LS-1)

AGENCY: Division of Federal Employees', Longshore and Harbor Workers' Compensation (DFELHWC), Office of Workers' Compensation Programs, Department of Labor.

ACTION: Request for public comments.

SUMMARY: The Department of Labor, as part of its continuing effort to reduce paperwork and respondent burden, conducts a pre-clearance request for comment to provide the general public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed. OWCP/DFELHWC is soliciting comments on the information collection for “Request for Examination and/or Treatment (LS-1).”

DATES: Consideration will be given to all written comments received by September 5, 2023.

ADDRESSES: You may submit comment as follows. Please note that late, untimely filed comments will not be considered.

Written/Paper Submissions: Submit written/paper submissions in the following way:

• Mail/Hand Delivery: Mail or visit DOL-OWCP/DFELHWC, Office of Workers' Compensation Programs, Division of Federal Employees' Longshore and Harbor Workers' Compensation, U.S. Department of Labor, 200 Constitution Ave. NW, Room C-4319, Washington, DC 20210.

• OWCP/DFELHWC will post your comment as well as any attachments, except for information submitted and marked as confidential, in the docket at https://www.regulations.gov.

FOR FURTHER INFORMATION CONTACT: Contact Anjanette Suggs, Office of Workers' Compensation Programs, Division of Federal Employees' Longshore and Harbor Workers' Compensation, OWCP/DFELHWC at suggs.anjanette@dol.gov (email); or (202) 354-9660.

SUPPLEMENTARY INFORMATION:

I. Background

The Office of Workers' Compensation Programs administers the Longshore and Harbor Workers' Compensation Act. The Act provides benefits to workers' injured in maritime employment on the navigable waters of the United States or in an adjoining area customarily used by an employer in loading, unloading, repairing, or building a vessel. In addition, several acts extend the Longshore Act's coverage to certain other employees. Section 33 U.S.C. 907 of the Longshore Act and 20 CFR 702.419, the employer/insurance carrier is responsible for furnishing medical care for the injured employee for such period of time as the injury or recovery period may require. Form LS-1 serves two purposes: It authorizes the medical care, and it provides a vehicle for the treating. physician to report the findings, treatment given, and anticipated physical condition of the employee. Legal authority for this information collection is found at 33 U.S.C. 907. Regulatory authority is found at 20 CFR 702.419.

II. Desired Focus of Comments

The OWCP/DFELHWC is soliciting comments concerning the proposed information collection request (ICR) titled, “Request for Examination and/or Treatment (LS-1).”

OWCP/DFELHWC is particularly interested in comments that:

• Evaluate whether the collection of information is necessary for the proper performance of the functions of the agency, including whether the information will have practical utility.

• Evaluate the accuracy of OWCP/DFELHWC's estimate of the burden related to the information collection, including the validity of the methodology and assumptions used in the estimate.

• Suggest methods to enhance the quality, utility, and clarity of the information to be collected; and

• Minimize the burden of the collection of information on those who are to respond, including through the use of appropriate automated, electronic, mechanical, or other technological collection techniques or other forms of information technology, e.g., permitting electronic submission of responses.

Background documents related to this information collection request are available at https://regulations.gov and at DOL-OWCP/DFELHWC located at 200 Constitution Ave. NW, Room C-4319, Washington, DC 20210. Questions about the information collection requirements may be directed to the person listed in the FOR FURTHER INFORMATION CONTACT section of this notice.

III. Current Actions

This information collection request concerns the “Request for Examination and/or Treatment (LS-1). OWCP/DFELHWC has updated the data with respect to the number of respondents, responses, burden hours, and burden costs supporting this information collection request from the previous information collection request.

Type of Review: Extension (with/without) change of a currently approved collection.

Agency: DOL-Office of Workers' Compensation Programs, Division of Federal Employees, Longshore and Harbor Workers' Compensation, OWCP/DFELHWC.

OMB Control Number: 1240-0029.

Affected Public: Individuals or households.

Number of Respondents: 3,800.

Frequency: On occasion.

Number of Responses: 60,000.

Annual Burden Hours: 48,750 hours.

Annual Respondent or Recordkeeper Cost: $2,544,300.

OWCP Form: Form LS-1, Request for Examination and/or Treatment.

Comments submitted in response to this notice will be summarized in the request for Office of Management and Budget approval of the proposed information collection request; they will become a matter of public record and will be available at https://www.reginfo.gov.

Anjanette Suggs,
Certifying Officer.

[FR Doc. 2023-14375 Filed 7-6-23; 8:45 am]

BILLING CODE 4510-CF-P